DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, MD 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Due to an administrative delay, set forth below is a list of petitions received by HRSA on September 1, 2018, through September 30, 2018. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading “For Further Information Contact”), with a copy to HRSA addressed to Director, Division of Injury Compensation Programs, Healthcare Systems Bureau, 5600 Fishers Lane, 08N146B, Rockville, MD 20857. The Court's caption (Petitioner's Name v. Secretary of Health and Human Services) and the docket number assigned to the petition should be used as the caption for the written submission. Chapter 35 of title 44, United States Code, related to paperwork reduction, does not apply to information required for purposes of carrying out the Program.

Dated: December 20, 2018.
George Sigounas,
Administrator.

List of Petitions Filed

1. Audrey Green, Aiken, South Carolina, Court of Federal Claims No: 18-1348V

2. Jennifer A. Brooks, Miami, Florida, Court of Federal Claims No: 18-1349V

3. Sherrill Cote, Keene, New Hampshire, Court of Federal Claims No: 18-1350V

4. Pauline Martinez, Kyle, Texas, Court of Federal Claims No: 18-1352V

5. Cheryl deWit, Painesville, Ohio, Court of Federal Claims No: 18-1353V

6. Charles Sheppard, Boscobel, Wisconsin, Court of Federal Claims No: 18-1354V

7. Katherine Jinkerson, Farmington Hills, Michigan, Court of Federal Claims No: 18-1355V

8. William C. Finney on behalf of Jean Finney, Deceased, Round Rock, Texas, Court of Federal Claims No: 18-1356V

9. John Silva, Boston, Massachusetts, Court of Federal Claims No: 18-1357V

10. Rebecca Gosselink, Phoenix, Arizona, Court of Federal Claims No: 18-1358V

11. Stephanie Bennett on behalf of The Estate of Shawn Gessner, Kansas City, Kansas, Court of Federal Claims No: 18-1359V

12. Chaneice Thompson, Voorhees, New Jersey, Court of Federal Claims No: 18-1360V

13. Norma Blanco, Oakhurst, New Jersey, Court of Federal Claims No: 18-1361V

14. Elizabeth Schnarr, Pittsburgh, Pennsylvania, Court of Federal Claims No: 18-1362V

15. Emerson Davis, Allen, Texas, Court of Federal Claims No: 18-1364V

16. Robert Stoll, Clearwater, Florida, Court of Federal Claims No: 18-1365V

17. Lori Phelan on behalf of A.P., Islandia, New York, Court of Federal Claims No: 18-1366V

18. Bobbie Sholdebrande, Carrollton, Kentucky, Court of Federal Claims No: 18-1368V

19. Gregory Cress, Jerseyville, Illinois, Court of Federal Claims No: 18-1369V

20. April Keib, Wallingford, Connecticut, Court of Federal Claims No: 18-1370V

21. Jennifer Williford and Charles Edward Williford, III on behalf of R.W., Garner, North Carolina, Court of Federal Claims No: 18-1371V

22. Edward Crisileo, Boston, Massachusetts, Court of Federal Claims No: 18-1372V

23. Janice Richardson, Denver, Colorado, Court of Federal Claims No: 18-1373V

24. Paul Rehbein, Birmingham, Alabama, Court of Federal Claims No: 18-1374V

25. Kelly Clark, South Elgin, Illinois, Court of Federal Claims No: 18-1381V

26. Laurent Jones, Waupun, Wisconsin, Court of Federal Claims No: 18-1382V

27. Ruth Thompson, Huntsville, Alabama, Court of Federal Claims No: 18-1383V

28. Neil Joshi, Burlington, Massachusetts, Court of Federal Claims No: 18-1384V

29. Linda Gardner, Forest Hills, New York, Court of Federal Claims No: 18-1385V

30. Evelin Lopes, West Reading, Pennsylvania, Court of Federal Claims No: 18-1388V

31. Jodie Prouty, Middle Granville, New York, Court of Federal Claims No: 18-1389V

32. Torrell M. Johnson, Honolulu, Hawaii, Court of Federal Claims No: 18-1390V

33. Mary Newcomb on behalf of Andrew Tidd, Deceased, Mt. Laurel, New Jersey, Court of Federal Claims No: 18-1393V

34. Benjamin Gay, Richmond, Virginia, Court of Federal Claims No: 18-1394V

35. Stefano Gelardi, Palm Beach, Florida, Court of Federal Claims No: 18-1396V

36. John Agate, Williamsville, New York, Court of Federal Claims No: 18-1397V

37. Sasha Weiser-Freedman, Oyster Bay, New York, Court of Federal Claims No: 18-1398V

38. Amy Link, North Miami, Florida, Court of Federal Claims No: 18-1399V

39. Mary Moon, Desoto, Texas, Court of Federal Claims No: 18-1403V

40. Mary H. Cramer, Philadelphia, Pennsylvania, Court of Federal Claims No: 18-1404V

41. Zoila Lopez, Ivins, Utah, Court of Federal Claims No: 18-1405V

42. James Victor Grant, The Woodlands, Texas, Court of Federal Claims No: 18-1406V

43. Alanna K. Infinger, Fryeburg, Maine, Court of Federal Claims No: 18-1407V

44. Alicia Holtzer, Newport News, Virginia, Court of Federal Claims No: 18-1408V

45. Mohamed Mohamed on behalf of Salah Hamad, Deceased, Woodbridge, Virginia, Court of Federal Claims No: 18-1409V

46. Benjamin Gonzales, Austin, Texas, Court of Federal Claims No: 18-1410V

47. Kenya Sample, Middletown, Delaware, Court of Federal Claims No: 18-1412V

48. Margaret Schwarck, Marshalltown, Iowa, Court of Federal Claims No: 18-1413V

49. Janet Muscari, Plantation, Florida, Court of Federal Claims No: 18-1414V

50. Cindy Cox, Fort Lupton, Colorado, Court of Federal Claims No: 18-1415V

51. Richard Brantley, Chicago, Illinois, Court of Federal Claims No: 18-1416V

52. Tricia Switzer on behalf of Richard Feider, Sr., Deceased, Phoenix, Arizona, Court of Federal Claims No: 18-1418V

53. Bryson Liberty, Phoenix, Arizona, Court of Federal Claims No: 18-1419V

54. Arnulfo Pantoja, San Antonio, Texas, Court of Federal Claims No: 18-1420V

55. Jacqueline Staggers, Uniontown, Pennsylvania, Court of Federal Claims No: 18-1423V

56. Jennifer Mitchell, Montgomery, Alabama, Court of Federal Claims No: 18-1424V

57. Deborah Ryan, San Pedro, California, Court of Federal Claims No: 18-1427V

58. Matthew Morales, Newark, New Jersey, Court of Federal Claims No: 18-1428V

59. Angela Malar, Cape May, New Jersey, Court of Federal Claims No: 18-1429V

60. Tatiana Dautkhanova and Ruslan Dautkhanova on behalf of E.D., Louisville, Colorado, Court of Federal Claims No: 18-1430V

61. Charlotte Dunn, Clovis, California, Court of Federal Claims No: 18-1431V

62. Brian Walker, Farmington Hills, Michigan, Court of Federal Claims No: 18-1433V

63. Thomas Creely, Pittsburgh, Pennsylvania, Court of Federal Claims No: 18-1434V

64. Staci Broadway, Rome, Georgia, Court of Federal Claims No: 18-1435V

65. Mary Ann Deubel, Millburn, New Jersey, Court of Federal Claims No: 18-1436V

66. Lissette Limonta, Palm Springs, Florida, Court of Federal Claims No: 18-1437V

67. Alyce Romines, Arab, Alabama, Court of Federal Claims No: 18-1440V

68. Maddison Rowlett, Portland, Oregon, Court of Federal Claims No: 18-1441V

69. Jay Zimmer, Dublin, California, Court of Federal Claims No: 18-1442V

70. Chey Lewis, Kernersville, North Carolina, Court of Federal Claims No: 18-1443V

71. Mary Priscilla Egan, Washington, District of Columbia, Court of Federal Claims No: 18-1444V

72. Tammy S. Gold, Dover, Ohio, Court of Federal Claims No: 18-1445V

73. Kesha Joseph on behalf of M. J. H., Deceased, Greenville, North Carolina, Court of Federal Claims No: 18-1447V

74. Rosie Estrada, Palm Springs, California, Court of Federal Claims No: 18-1448V

75. Maritza Serrano, Vega Alta, Puerto Rico, Court of Federal Claims No: 18-1449V

76. Vahan Eloyan, Thousand Oaks, California, Court of Federal Claims No: 18-1450V

77. Donna Bauer on behalf of William Bauer, Deceased, Burlington, Kansas, Court of Federal Claims No: 18-1451V

78. Vickie Ray, Fayetteville, Georgia, Court of Federal Claims No: 18-1452V

79. Donnette Giza, Washington, District of Columbia, Court of Federal Claims No: 18-1453V

80. Lisa Schwartz, Boston, Massachusetts, Court of Federal Claims No: 18-1454V

81. Gailmarie Hanna, Washington, District of Columbia, Court of Federal Claims No: 18-1455V

82. Calandra Harps, Washington, District of Columbia, Court of Federal Claims No: 18-1456V

83. Dale Jacoby, Washington, District of Columbia, Court of Federal Claims No: 18-1457V

84. Mary Jensen, Washington, District of Columbia, Court of Federal Claims No: 18-1458V

85. Jenelyn Sagala and Michael Sagala on behalf of J.S., Cambridge, Massachusetts, Court of Federal Claims No: 18-1459V

86. Jeffrey Smith, Vienna, Virginia, Court of Federal Claims No: 18-1460V

87. Catherine M. Freund, Fayetteville, New York, Court of Federal Claims No: 18-1461V

88. Pearl Webbe, Boston, Massachusetts, Court of Federal Claims No: 18-1462V

89. Lisa Neuss-Guillen, Phoenix, Arizona, Court of Federal Claims No: 18-1463V

90. Heidi Levisee, Minneapolis, Minnesota, Court of Federal Claims No: 18-1464V

91. Anntoinette Reynolds on behalf of Michael Reynolds, Deceased, Mountain Home, Idaho, Court of Federal Claims No: 18-1465V

92. Tammy Copping, St. Louis, Missouri, Court of Federal Claims No: 18-1466V

93. Tim L. Lisk, Albemarle, North Carolina, Court of Federal Claims No: 18-1467V

94. Cheryl Powers, Indianapolis, Indiana, Court of Federal Claims No: 18-1468V

95. Megan Lucas, Marysville, Washington, Court of Federal Claims No: 18-1470V

96. Alexandra Soto, Lakewood, New Jersey, Court of Federal Claims No: 18-1471V

97. Jeremy Price and Gina Price on behalf of J.P., Linwood, New Jersey, Court of Federal Claims No: 18-1472V

98. Kayleen Crump Weed, Bountiful, Utah, Court of Federal Claims No: 18-1473V

99. Judith Day, Layton, Utah, Court of Federal Claims No: 18-1475V

100. Karen Goldie, Franklin, Ohio, Court of Federal Claims No: 18-1476V

101. Paul Christensen, Bellevue, Washington, Court of Federal Claims No: 18-1477V

102. Mark Crosby, Evendale, Ohio, Court of Federal Claims No: 18-1478V

103. Melissa Zielinski, Schaumburg, Illinois, Court of Federal Claims No: 18-1479V

104. Tajuana Perkins, Davenport, Florida, Court of Federal Claims No: 18-1480V

105. Mary Riviere, Jacksonville, Florida, Court of Federal Claims No: 18-1482V

106. Hope Johnson, Boston, Massachusetts, Court of Federal Claims No: 18-1486V

107. Keith A. Miller, Memphis, Tennessee, Court of Federal Claims No: 18-1487V

108. Ryan Spangler and Courtney Spangler on behalf of J.S., Chico, California, Court of Federal Claims No: 18-1488V

109. Constance Connor, Durham, North Carolina, Court of Federal Claims No: 18-1489V

110. Barbara Bowie, Upper Marlboro, Maryland, Court of Federal Claims No: 18-1490V

111. Gayzelle Thomas, Midlothian, Virginia, Court of Federal Claims No: 18-1491V

112. Matthew A. O'Brien, Maui, Hawaii, Court of Federal Claims No: 18-1492V

113. Melissa Hardin, Spartanburg, North Carolina, Court of Federal Claims No: 18-1493V

114. Rae Jean Leonard, Des Moines, Idaho, Court of Federal Claims No: 18-1495V

115. Teresa Landrum, Ocean City, New Jersey, Court of Federal Claims No: 18-1497V

116. Sheri L. Berrier, West Des Moines, Idaho, Court of Federal Claims No: 18-1498V

117. Carrie A. Newcomer, Bloomington, Indiana, Court of Federal Claims No: 18-1501V

118. Elizabeth Conner Wood, Columbia, South Carolina, Court of Federal Claims No: 18-1503V

119. Pattie Patriquin, Washington, District of Columbia, Court of Federal Claims No: 18-1504V

120. Jennifer Kappre, Washington, District of Columbia, Court of Federal Claims No: 18-1505V

121. Kelly Caven, Oklahoma City, Oklahoma, Court of Federal Claims No: 18-1506V

122. Maura McAuliffe, Washington, District of Columbia, Court of Federal Claims No: 18-1507V

123. Mary Rendon, Lewisville, Texas, Court of Federal Claims No: 18-1508V

124. Flordelisa Pascual, Vallejo, California, Court of Federal Claims No: 18-1509V

125. Anita Plouffe, Seattle, Washington, Court of Federal Claims No: 18-1510V

126. Michelle Roy, Hillsborough, New Hampshire, Court of Federal Claims No: 18-1511V

127. Terry Pitts, Washington, District of Columbia, Court of Federal Claims No: 18-1512V

128. Julia Randazzo, Washington, District of Columbia, Court of Federal Claims No: 18-1513V

129. Cheree Dowdell, Wellesley Hills, Massachusetts, Court of Federal Claims No: 18-1514V

[FR Doc. 2018-28136 Filed 12-27-18; 8:45 am]

BILLING CODE 4165-15-P